DEPARTMENT OF TRANSPORTATION

Surface Transportation Board

[STB Docket No. AB-6 (Sub-No. 429X) and AB-882 (Sub-No. 1X)]

BNSF Railway Company—Abandonment Exemption—in Ramsey County, MN; Minnesota Commercial Railway Company—Discontinuance of Service Exemption—in Ramsey County, MN

BNSF Railway Company (BNSF) and Minnesota Commercial Railway Company (MNNR) (collectively, applicants) have jointly filed a notice of exemption under 49 CFR 1152 subpart F—Exempt Abandonments and Discontinuances of Service for BNSF to abandon, and MNNR to discontinue service over, a 0.67-mile line of railroad between milepost 7.19, a point approximately 100 feet north of Interstate Highway I-694 in White Bear Township, and milepost 6.52, a point approximately 50 feet north of Beam Avenue in Maplewood, in Ramsey County, MN.¹

¹ By memorandum to the Board's Section of Environmental Analysis (SEA) dated June 24, 2005, MNNR amended its environmental and historic report in the above proceedings to reflect the correct location of the rail line and right-of-way. According to MNNR, the rail line is located in the City of Maplewood, MN, and in White Bear Township, not White Bear Lake, MN, and the outer portions of the right-of-way may be located in the municipalities of Vadnais Heights, MN, and White Bear Lake.

BNSF and MNNR have certified that: (1) No traffic has moved over the line for at least 2 years; (2) any overhead traffic on the line can be rerouted over other lines; (3) no formal complaint filed by a user of rail service on the line (or by a state or local government entity acting on behalf of such user) regarding cessation of service over the line either is pending with the Surface Transportation Board or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the abandonment or discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on September 9, 2005,² unless stayed pending reconsideration. Petitions to stay that do not involve environmental issues,³ formal expressions of intent to file an OFA under 49 CFR 1152.27(c)(2),⁴ and trail use/rail banking requests under 49 CFR 1152.29 must be filed by August 19, 2005. Petitions to reopen or requests for public use conditions under 49 CFR 1152.28 must be filed by August 30, 2005, with the: Surface Transportation Board, 1925 K Street, NW., Washington, DC 20423-0001.

² In their notice filed on July 21, 2005, applicants proposed a consummation date of August 30, 2005. In a letter filed on July 28, 2005, applicants indicate that the correct consummation date is September 9, 2005, which is the earliest the exemption could become effective under 49 CFR 1152.50(d)(2).

³ The Board will grant a stay if an informed decision on environmental issues (whether raised by a party or by SEA in its independent investigation) cannot be made before the exemption's effective date. See Exemption of Out-of-Service Rail Lines, 5 I.C.C.2d 377 (1989). Any request for a stay should be filed as soon as possible so that the Board may take appropriate action before the exemption's effective date.

⁴ Each OFA must be accompanied by the filing fee, which currently is set at $1,200. See 49 CFR 1002.2(f)(25).

A copy of any petition filed with the Board should be sent to applicants' representatives: for BNSF, Sidney L. Strickland, Jr., Sidney L. Strickland and Associates, PLLC, 3050 K Street, NW., Suite 101, Washington, DC 20007-5108; for MNNR, Thomas F. McFarland, Thomas F. McFarland, P.C., 208 South LaSalle Street, Suite 1890, Chicago, IL 60604-1112.

If the verified notice contains false or misleading information, the exemption is void ab initio.

Applicants have filed environmental and historic reports which address the effects, if any, of the abandonment and discontinuance on the environment and historic resources. SEA will issue an environmental assessment (EA) by August 15, 2005. Interested persons may obtain a copy of the EA by writing to SEA (Room 500, Surface Transportation Board, Washington, DC 20423-0001) or by calling SEA, at (202) 565-1539. (Assistance for the hearing impaired is available through the Federal Information Relay Service (FIRS) at 1-800-877-8339.) Comments on environmental and historic preservation matters must be filed within 15 days after the EA becomes available to the public.

Environmental, historic preservation, public use, or trail use/rail banking conditions will be imposed, where appropriate, in a subsequent decision.

Pursuant to the provisions of 49 CFR 1152.29(e)(2), BNSF shall file a notice of consummation with the Board to signify that it has exercised the authority granted and fully abandoned the line. If consummation has not been effected by BNSF's filing of a notice of consummation by August 10, 2006, and there are no legal or regulatory barriers to consummation, the authority to abandon will automatically expire.

Board decisions and notices are available on our Web site at http://www.stb.dot.gov.

Decided: August 3, 2005.
By the Board, David M. Konschnik, Director, Office of Proceedings.
Vernon A. Williams,
Secretary.

[FR Doc. 05-15761 Filed 8-9-05; 8:45 am]

BILLING CODE 4915-01-P